DEPARTMENT OF HOMELAND SECURITY

Federal Emergency Management Agency

[Docket ID FEMA-2007-0008]

National Advisory Council

AGENCY: Federal Emergency Management Agency, DHS.

ACTION: Committee Management; Notice of Federal Advisory Committee Meeting.

SUMMARY: The National Advisory Council will meet on October 18, 2012, in Arlington, VA. The meeting will be open to the public.

DATES: The National Advisory Council will meet Thursday, October 18, 2012, from 8:30 a.m. to 5:30 p.m. EDT. Please note that the meeting may close early if the committee has completed its business.

ADDRESSES: The meeting will be held at the Key Bridge Marriott at 1401 Lee Highway, Arlington, VA 22201.

For information on facilities or services for individuals with disabilities or to request special assistance at the meeting, contact the Office of the National Advisory Council as soon as possible. See contact information under FOR FURTHER INFORMATION CONTACT section below.

To facilitate public participation, members of the public are invited to comment on the issues to be considered by the committee, as listed in the SUPPLEMENTARY INFORMATION section. Written comments or requests to make oral presentations must be submitted in writing no later than October 11, 2012 and must be identified by Docket ID FEMA-2007-0008 and may be submitted by one of the following methods:

• Federal eRulemaking Portal: http://www.regulations.gov. Follow the instructions for submitting comments.

• Mail/Courier: Regulatory Affairs Division, Office of Chief Counsel, FEMA, 500 C Street SW., Room 840, Washington, DC 20472-3100.

Instructions: All submissions received must include the words “Federal Emergency Management Agency” and the Docket ID FEMA-2007-0008 for this action. Comments received will be posted without alteration at http://www.regulations.gov, including any personal information provided.

Docket: For access to the docket to read background documents or comments received by the National Advisory Council, go to http://www.regulations.gov.

A public comment period will be held during the meeting from 10:15 a.m. to 10:45 a.m. EDT. Speakers are requested to register in advance, be present and seated by 9:45 a.m. EDT, and limit their comments to 3 minutes. With 3 minutes per speaker, the public comment period is limited to no more than 10 speakers. Please note that the public comment period may end before the time indicated, following the last call for comments. There will also be a brief opportunity for public comment after each subcommittee brief out. Any briefing materials will be posted to the NAC Web site, as they become available. Contact the Office of the National Advisory Council, to register as a speaker.

FOR FURTHER INFORMATION CONTACT: Alexandra Woodruff, Alternate Designated Federal Officer, Office of the National Advisory Council, Federal Emergency Management Agency (Room 825), 500 C Street SW., Washington, DC 20472-3100, telephone (202) 212-4349, fax (540) 504-2331, and email FEMA-NAC@fema.dhs.gov. The National Advisory Council Web site is located at: http://www.fema.gov/national-advisory-council.

SUPPLEMENTARY INFORMATION: Notice of this meeting is given under the Federal Advisory Committee Act, 5 U.S.C. App. (Pub. L. 92-463). The National Advisory Council (NAC) advises the Administrator of the Federal Emergency Management Agency (FEMA) on all aspects of emergency management. The NAC incorporates State, local, and Tribal governments, and private sector partners' input in the development and revision of FEMA policies and strategies. FEMA's Office of the NAC serves as the focal point for all NAC coordination.

Agenda: The NAC will meet for the purpose of reviewing the progress and/or potential recommendations of its four subcommittees: Preparedness and Protection, Response and Recovery, Public Engagement and Mission Support, and Federal Insurance and Mitigation. New members will be sworn in at the beginning of the meeting, and the Administrator and Deputy Administrator will discuss the general state of FEMA with the members.

The NAC will discuss the National Flood Insurance Program (NFIP) Reform Bill; FEMA's Private Sector Office initiative, the National Business Emergency Operation Center (NBEOC); youth preparedness and engagement; Mid-Level Career Program at the Emergency Management Institute (EMI); the Strategic Foresight Initiative (SFI); the use of specialized international teams in response; and the FEMA Qualification System (FQS). A FEMA Program Office will brief the NAC on Emerging Topics in Emergency Management during lunch, scheduled for 1 p.m. to 2:15 p.m. EDT.

In 1968, Congress created the National Flood Insurance Program (NFIP) to help provide a way for property owners to financially protect themselves by offering flood insurance if their community participates in the NFIP. Participating communities adopt and enforce ordinances that meet or exceed FEMA requirements to reduce the risk of flooding. FEMA announced the extension of the Preferred Risk Policy eligibility under the NFIP until further notice, as the Agency completes a study and analysis of the Biggert-Waters Flood Insurance Reform Act of 2012, signed into law by President Obama on July 6, 2012. More information can be found at http://www.floodsmart.gov/floodsmart/pages/about/nfip_overview.jsp.

FEMA announced the first ever NBEOC under Emergency Support Function (ESF)-15 in the National Response Coordination Center. This NBEOC is envisioned as a groundbreaking new virtual organization that serves as FEMA's clearinghouse for two-way information sharing between public and private sector stakeholders in preparing for, responding to, and recovering from disasters. More information can be found at http://www.fema.gov/private-sector-1.

Youth preparedness is a priority at the Federal level. Since fall 2010, FEMA, the U.S. Department of Education and the American Red Cross have been collaborating to empower youth to build a more resilient nation through youth preparedness education. More information on Youth Preparedness Program can be found at http://www.citizencorps.gov/ready/kids.shtm.

EMI is the emergency management community's training institution, and provides training to Federal, State, local, Tribal, volunteer, public, and private sector officials to strengthen emergency management core competencies for professional, career-long training. More information on EMI can be found at http://training.fema.gov/EMI/.

SFI promotes broader and longer term thinking, how the world is changing and the effects on the emergency management community. Thinking more broadly and over a longer timeframe will help us understand these changes and their potential impacts. More information on SFI can be found at http://www.fema.gov/about/programs/oppa/strategic_foresight_initiative.shtm.

In the event that U.S.-based responders are overwhelmed there are constraints on the entry and use of foreign responders due to concerns about liability and licensure issues. There are potential shortfalls in Urban Search and Rescue (US&R) capabilities needed to respond to catastrophic disasters and emphasizing the need to streamline how nations might share this important asset following a catastrophic disaster. More information can be found at http://usaid.gov/.

The primary purpose of the FEMA Qualifications System (FQS) is to provide the best possible customer service to survivors and communities working to respond to, recover from, and mitigate against disasters. FQS helps build FEMA's disaster response and recovery capability by providing personnel with the training and experience needed to assume positions of progressively greater responsibility. More information on FQS can be found at http://www.fema.gov/fema-qualification-system-0.

W. Craig Fugate,
Administrator, Federal Emergency Management Agency.

[FR Doc. 2012-24320 Filed 10-2-12; 8:45 am]

BILLING CODE 9111-48-P